DEPARTMENT OF COMMERCE

International Trade Administration

[A-427-828]

Certain Carbon and Alloy Steel Cut-to-Length Plate From France: Correction to the Amended Preliminary Determination of Sales at Less Than Fair Value

AGENCY: Enforcement and Compliance, International Trade Administration, Department of Commerce.

FOR FURTHER INFORMATION CONTACT: Brandon Custard or Terre Keaton Stefanova, AD/CVD Operations, Office II, Enforcement and Compliance, International Trade Administration, U.S. Department of Commerce, 1401 Constitution Avenue NW., Washington, DC 20230; telephone: (202) 482-1823 or (202) 482-1280, respectively.

SUPPLEMENTARY INFORMATION: On December 2, 2016, the Department of Commerce (the Department) published in the Federal Register the amended preliminary determination in the less than fair value investigation for certain carbon and alloy steel cut-to-length plate from France.¹

¹ See Certain Carbon and Alloy Steel Cut-to-Length Plate From France: Amended Preliminary Determination of Sales at Less Than Fair Value, 81 FR 87019 (December 2, 2016) (Amended Preliminary Determination).

The Department is issuing this notice to correct two inadvertent errors in the Amended Preliminary Determination. First, the Department listed the case number as A-427-428. The correct case number is A-427-828. Second, the Department stated an incorrect all-others rate of 6.33 percent.² The correct all-others rate is 6.34 percent, as stated in the calculation memorandum accompanying the Amended Preliminary Determination.³ Therefore, the Department is hereby correcting the Amended Preliminary Determination.

² Id.

³ See Memorandum to the file from Terre Keaton Stefanova entitled, “Amended Preliminary Determination Margin Calculation for Dillinger France S.A. for the Antidumping Duty Investigation of Certain Carbon and Alloy Steel Cut-To-Length Plate from France,” dated November 29, 2016, at 4.

This correction to the amended preliminary determination of sales at less than fair value is issued and published in accordance with sections 733(f) and 777(i)(1) of the Tariff Act of 1930, as amended.

Dated: December 9, 2016.
Paul Piquado,
Assistant Secretary for Enforcement and Compliance.

[FR Doc. 2016-30148 Filed 12-14-16; 8:45 am]

BILLING CODE 3510-DS-P